FEDERAL COMMUNICATIONS COMMISSION

47 CFR Parts 22 and 27

[ET Docket No. 00-258; WT Docket No. 02-353; DA 07-1120]

Service Rules for Advanced Wireless Services in the 1.7 GHz and 2.1 GHz Bands

ACTION: Final rule; announcement of effective date and public information collections approval.

SUMMARY: The Federal Communications Commission (FCC) received Office of Management and Budget (OMB) approval on June 25, 2007, pursuant to the Paperwork Act of 1995, Public Law 104-13, for the following information collections contained in 47 CFR 27.1166(a), (b) and (e); 27.1170; 27.1182(a), (b); and 27.1186, that were published at 71 FR 29818, 29836-40 (May 24, 2006). An agency may not conduct or sponsor and a person is not required to respond to a collection of information unless it displays a currently valid control number.

DATES: On June 25, 2007, OMB approved the information collections for 47 CFR 27.1166(a), (b) and (e); 27.1170; 27.1182(a), (b); and 27.1186, that were published at 71 FR 29818, 29836-40 (May 24, 2006). Accordingly, the effective date for the information collections contained in these rules is June 25, 2007.

FOR FURTHER INFORMATION CONTACT: Jennifer Mock, Broadband Division, Wireless Telecommunications Bureau at (202) 418-2483 or via the Internet at Jennifer.Mock@fcc.gov.

SUPPLEMENTARY INFORMATION: OMB Control No.: 3060-1030.

OMB Approval Date: 6/25/2007.

OMB Expiration Date: 6/31/2010.

Title: Service Rules for Advanced Wireless Services in the 1.7 GHz and 2.1 GHz Bands.

Form No.: N/A.

Estimated Annual Burden: 1,716 respondents; 29,147 annual burden hours; 2 hours per respondent; and $2,271,200 annual costs.

Needs and Uses: The Ninth Report and Order (Ninth R&O) adopted relocation procedures to govern the relocation of: (1) Broadband Radio Service (BRS) licensees in the 2150-2160/62 MHz band; and (2) Fixed Microwave Service (FS) licensees in the 2110-2150 MHz and 2160-2180 MHz bands. The Ninth R&O also adopted cost sharing rules that identify the reimbursement obligations for Advanced Wireless Service (AWS) and Mobile Satellite Service (MSS) entrants benefiting from the relocation of FS operations in the 2110-2150 MHz band 2160-2200 MHz band and AWS entrants benefiting from the relocation of BRS operations in the 2150-2160/62 MHz band. The adopted relocation and cost sharing procedures generally follow the Commission's relocation and cost sharing policies delineated in the Emerging Technologies proceeding, and as modified by subsequent decisions. These relocation policies are designed to allow early entry for new technology providers by allowing providers of new services to negotiate financial arrangements for reaccommodation of incumbent licensees, and have been tailored to set forth specific relocation schemes appropriate for a variety of different new entrants, including AWS, MSS, Personal Communications Service (PCS) licensees, 18 GHz Fixed Satellite Service (FSS) licensees, and Sprint Nextel. While these new entrants occupy different frequency bands, each entrant has had to relocate incumbent operations. The relocation and cost sharing procedures adopted in the Ninth R&O are designed to ensure an orderly and expeditious transition of, with minimal disruption to, incumbent BRS operations from the 2150-2160/62 MHz band and FS operations from the 2110-2150 MHz and 2160-2180 MHz bands, in order to allow early entry for new AWS licensees into these bands. In the Ninth R&O the FCC adopted disclosures related to negotiation and relocation of incumbent FS radio links and incumbent BRS systems, and for the registration of these relocation expenses with a clearinghouse, including documentation of reimbursable costs for FS and BRS relocations, documentation when a new AWS and MSS Ancillary Terrestrial Components (MSS/ATC) operators trigger a cost-sharing obligation, prior coordination notices to identify when a specific site will trigger a cost-sharing obligation, and retention of records by the clearinghouses. (Privately administered clearinghouses, selected by the FCC, will keep track of and administer the cost sharing obligations over the next 10-15 years as AWS and MSS-ATC operators build new stations that require them to relocate incumbents.) In the Clearinghouse Order, ET Docket No. 00-258 and WT Docket No. 02-353, DA 07-1120, the FCC's Wireless Telecommunications Bureau (Bureau) requires the AWS clearinghouses to file reports with the FCC and to make disclosures between the clearinghouses. Separately, in a Public Notice issued jointly with the National Telecommunications and Information Administration (NTIA), 71 FR 28696 (May 17, 2006), 21 FCC Rcd 4730 (2006), the FCC set forth procedures for AWS licensees to coordinate with Federal Government operators in the 1.7 GHz band, and AWS licenses are granted with a special condition that requires coordination with Federal operators.

Federal Communications Commission.
William F. Caton,
Deputy Secretary.

[FR Doc. E7-14803 Filed 7-31-07; 8:45 am]

BILLING CODE 6712-01-P